DEPARTMENT OF COMMERCE

International Trade Administration

[C-533-839]

Carbazole Violet Pigment 23 From India: Final Results of Expedited Second Sunset Review of the Countervailing Duty Order

AGENCY: Enforcement and Compliance, International Trade Administration, Department of Commerce.

SUMMARY: The Department of Commerce finds that revocation of the countervailing duty (CVD) order on carbazole violet pigment 23 (CVP-23) from India would be likely to lead to continuation or recurrence of a countervailable subsidy at the levels indicated in the “Final Results of Sunset Review” section of this notice.

DATES: Effective Date: August 7, 2015.

FOR FURTHER INFORMATION CONTACT: Jacqueline Arrowsmith, Office VII, AD/CVD Operations, Enforcement and Compliance, International Trade Administration, U.S. Department of Commerce, 14th Street and Constitution Avenue NW., Washington, DC 20230; telephone (202) 482-5255.

SUPPLEMENTARY INFORMATION:

Background

On December 29, 2004, the Department of Commerce (the Department) published the CVD order on CVP-23 from India.¹ On April 1, 2015, the Department published a notice of initiation of the second sunset review of the CVD Order on CVP-23 from India pursuant to section 751(c) of the Tariff Act of 1930, as amended (the Act).² On April 13, 2015, Nation Ford Chemical Company (NFC) and Sun Chemical Corporation (Sun) filed a notice of intent to participate in the review.³ NFC and Sun claimed interested party status under section 771(9)(C) of the Act, as domestic producers of the domestic like product.⁴

¹ See: Notice of Countervailing Duty Order: Carbazole Violet Pigment 23 From India, 69 FR 77995 (December 29, 2004) (CVD Order).

² See Initiation of Five Year (“Sunset”) Review, 79 FR 65186 (April 1, 2015).

³ See Letter from NFC and Sun to the Department, “Carbazole Violet Pigment 23 from India/Notice of Intent to Participate in Second Sunset Review of Countervailing Duty Order,” dated April 13, 2015.

⁴ In its response, NFC and Sun claim to be domestic producers of CVP-23. Id. at 2.

The Department received an adequate substantive response from the domestic industry within the 30-day deadline specified in 19 CFR 351.218(d)(3)(i). The Department did not receive a response from the Government of India or any respondent interested party to the proceeding. As a result, pursuant to section 751(c)(3)(B) of the Act and 19 CFR 351.218(e)(l)(ii)(B)(2) and (C)(2), the Department conducted an expedited review of this CVD Order on CVP-23 from India.

Scope of the Order

The merchandise subject to this CVD Order is CVP-23. Imports of merchandise included within the scope of this order are currently classifiable under subheading 3204.17.9040 of the Harmonized Tariff Schedule of the United States. The Issues and Decision Memorandum, which is hereby adopted by this notice, provides a full description of the scope of the order.⁵

⁵ See Department Memorandum, “Issues and Decision Memorandum for the Final Results of the Expedited Second Sunset Review of the Countervailing Duty Order on Carbazole Violet Pigment 23 from India,” dated concurrently with, and hereby adopted by, this notice.

The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed at http://enforcement.trade.gov/frn/. The signed Issues and Decision Memorandum and the electronic version of the Issues and Decision Memorandum are identical in content.

Analysis of Comments Received

All issues raised in this review are addressed in the Issues and Decision Memorandum. The issues discussed include the likelihood of continuation or recurrence of a countervailable subsidy and the net countervailable subsidy rate likely to prevail if the CVD Order were revoked.

Final Results of Sunset Review

Pursuant to sections 752(b)(1) and (3) of the Act, we determine that revocation of the CVD Order on CVP-23 from India would be likely to lead to continuation or recurrence of a net countervailable subsidy at the rates listed below:

Manufacturers exporters/ producers | Net countervailable subsidy (percent)
Alpanil Industries Ltd | 14.93
Pidilite Industries Ltd | 15.24
AMI Pigments Pvt. Ltd | 33.61
All Others | 18.66

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act.

Dated: July 30, 2015.
Ronald K. Lorentzen,
Acting Assistant Secretary for Enforcement and Compliance.

[FR Doc. 2015-19354 Filed 8-6-15; 8:45 am]

BILLING CODE 3510-DS-P